DEPARTMENT OF ENERGY

Federal Energy Regulatory Commission

Combined Notice of Filings #1

August 17, 2010.

Take notice that the Commission received the following electric rate filings:

Docket Numbers: ER96-1551-022; ER01-615-018; ER09-746-003.

Applicants: Public Service Company of New Mexico; Optim Energy Marketing, LLC.

Description: Public Service Company of New Mexico et al submits supplemental to triennial market power update.

Filed Date: 08/16/2010.

Accession Number: 20100816-0015.

Comment Date: 5 p.m. Eastern Time on Tuesday, September 7, 2010.

Docket Numbers: ER99-845-020; ER10-622-002

Applicants: Puget Sound Energy, Inc., Macquarie Energy LLC

Description: Revised Exhibits to Triennial Updated Market Analysis of Puget Sound Energy, Inc., and Macquarie Energy LLC.

Filed Date: 08/16/2010.

Accession Number: 20100816-5159.

Comment Date: 5 p.m. Eastern Time on Tuesday, September 7, 2010.

Docket Numbers: ER99-1435-024; ER98-4336-016; ER00-1814-012.

Applicants: Avista Corporation; Spokane Energy, LLC; Avista Turbine Power, Inc.

Description: Applicants submits the replacement Exhibits LR-19a through LR-19f to Attachment A of the 6/29/10 filing.

Filed Date: 08/17/2010.

Accession Number: 20100817-0047.

Comment Date: 5 p.m. Eastern Time on Tuesday, September 7, 2010.

Docket Numbers: ER03-1284-011; ER05-1202-011; ER08-1225-009; ER09-1321-005.

Applicants: Blue Canyon Windpower II LLC, Cloud County Wind Farm, LLC, Blue Canyon Windpower LLC, Blue Canyon Windpower V LLC.

Description: Supplement to Updated Market Power Anaylsis for Blue Canyon Windpower LLC, et. al.

Filed Date: 08/17/2010.

Accession Number: 20100817-5034.

Comment Date: 5 p.m. Eastern Time on Tuesday, September 7, 2010.

Docket Numbers: ER07-521-010.

Applicants: New York Independent System Operator, Inc.

Description: New York Independent System Operator, Inc., Compliance Implementation Plan.

Filed Date: 08/16/2010.

Accession Number: 20100816-5158.

Comment Date: 5 p.m. Eastern Time on Tuesday, September 7, 2010.

Docket Numbers: ER10-1622-001.

Applicants: Interstate Power and Light Company.

Description: Interstate Power and Light Company submits supplemental materials regarding 1PL's recovery of Preliminary Survey and Investigation costs for the cancelled Sutherland Generating Station Unit 4.

Filed Date: 08/17/2010.

Accession Number: 20100817-0202.

Comment Date: 5 p.m. Eastern Time on Tuesday, September 7, 2010.

Docket Numbers: ER10-1629-001.

Applicants: San Diego Gas & Electric Company.

Description: San Diego Gas & Electric Company submits tariff filing per 35: San Diego Gas & Electric Company Baseline Transmission Owner Tariff Vol 11 to be effective 8/16/2010.

Filed Date: 08/17/2010.

Accession Number: 20100817-5061.

Comment Date: 5 p.m. Eastern Time on Tuesday, September 07, 2010.

Docket Numbers: ER10-2242-000.

Applicants: Central Hudson Gas & Electric Corporation.

Description: Central Hudson Gas & Electric Corporation submits Second Revised Sheet 4 to its Rate Schedule FERC 206.

Filed Date: 08/16/2010.

Accession Number: 20100816-0211.

Comment Date: 5 p.m. Eastern Time on Tuesday, September 7, 2010.

Docket Numbers: ER10-2245-000.

Applicants: Portland General Electric Company.

Description: Portland General Electric Company submits tariff filing per 35.12: PGE 13 Ancillary Services Tariff Baseline to be effective 8/16/2010.

Filed Date: 08/16/2010.

Accession Number: 20100816-5127.

Comment Date: 5 p.m. Eastern Time on Tuesday, September 7, 2010.

Docket Numbers: ER10-2246-000.

Applicants: Entergy Gulf States Louisiana, LLC.

Description: Entergy Gulf States Louisiana, LLC submits tariff filing per 35.15: Cancellation of EGSL Tariff ID to be effective 12/31/1998.

Filed Date: 08/16/2010.

Accession Number: 20100816-5128.

Comment Date: 5 p.m. Eastern Time on Tuesday, September 7, 2010.

Docket Numbers: ER10-2247-000.

Applicants: Entergy Gulf States Louisiana, LLC.

Description: Entergy Gulf States Louisiana, LLC submits tariff filing per 35.12: EGSL OATT Baseline Filing to be effective 8/16/2010.

Filed Date: 08/16/2010.

Accession Number: 20100816-5130.

Comment Date: 5 p.m. Eastern Time on Tuesday, September 7, 2010.

Docket Numbers: ER10-2248-000.

Applicants: Portland General Electric Company.

Description: Portland General Electric Company submits baseline Short-Term Capacity and/or Energy for resale eTariff pursuant to Order No 714, to be effective 8/17/2010.

Filed Date: 08/17/2010.

Accession Number: 20100817-5000.

Comment Date: 5 p.m. Eastern Time on Tuesday, September 7, 2010.

Docket Numbers: ER10-2249-000.

Applicants: Portland General Electric Company.

Description: Portland General Electric Company submits its baseline Market-Based Rate Tariff pursuant to Order No 714, to be effective 8/17/2010.

Filed Date: 08/17/2010.

Accession Number: 20100817-5001.

Comment Date: 5 p.m. Eastern Time on Tuesday, September 7, 2010.

Docket Numbers: ER10-2250-000.

Applicants: Portland General Electric Company.

Description: Portland General Electric Company submits its baseline Reserve Energy Service Tariff, to be effective 8/17/2010.

Filed Date: 08/17/2010.

Accession Number: 20100817-5002.

Comment Date: 5 p.m. Eastern Time on Tuesday, September 7, 2010.

Docket Numbers: ER10-2251-000.

Applicants: Wisconsin Electric Power Company.

Description: PJM Interconnection, LLC submits an executed interconnection service agreement entered into among PJM, et al.

Filed Date: 08/16/2010.

Accession Number: 20100817-0203

Comment Date: 5 p.m. Eastern Time on Tuesday, September 7, 2010.

Docket Numbers: ER10-2252-000.

Applicants: Westar Energy, Inc.

Description: Westar Energy, Inc submits Notice of Cancellation to Second Revised FPC 72, an Electric Interconnection Contract with Western Light & Telephone Company, Inc.

Filed Date: 08/16/2010.

Accession Number: 20100817-0205.

Comment Date: 5 p.m. Eastern Time on Tuesday, September 7, 2010.

Docket Numbers: ER10-2253-000.

Applicants: Astoria Energy LLC.

Description: Astoria Energy LLC submits tariff filing per 35.12: Astoria Energy LLC FERC Electric Tariff No. 1 to be effective 8/17/2010.

Filed Date: 08/17/2010.

Accession Number: 20100817-5027.

Comment Date: 5 p.m. Eastern Time on Tuesday, September 7, 2010.

Docket Numbers: ER10-2254-000.

Applicants: Duke Energy Ohio, Inc., Duke Energy Kentucky, Inc.

Description: Duke Energy Ohio, Inc et al submits filing as next of their proposed move from Midwest ISO to PJM following the filing made on 6/25/10.

Filed Date: 08/16/2010.

Accession Number: 20100817-0204.

Comment Date: 5 p.m. Eastern Time on Tuesday, September 7, 2010.

Docket Numbers: ER10-2257-000.

Applicants: Duke Energy Ohio, Inc.

Description: Duke Energy Ohio, Inc. submits tariff filing per 35.13(a)(2)(iii): Hamilton Sales Agreement to be effective 8/18/2010.

Filed Date: 08/17/2010.

Accession Number: 20100817-5064

Comment Date: 5 p.m. Eastern Time on Tuesday, September 7, 2010.

Docket Numbers: ER10-2258-000.

Applicants: Northbrook New York, LLC.

Description: Northbrook New York, LLC submits tariff filing per 35.12: Northbrook New York, LLC FERC Electric Tariff No. 2 to be effective 8/17/2010.

Filed Date: 08/17/2010.

Accession Number: 20100817-5075.

Comment Date: 5 p.m. Eastern Time on Tuesday, September 7, 2010.

Docket Numbers: ER10-2260-000.

Applicants: Cabrillo Power I LLC.

Description: Cabrillo Power I LLC submits tariff filing per 35: Cabrillo Power I—FERC electric Tariff to be effective 8/17/2010.

Filed Date: 08/17/2010.

Accession Number: 20100817-5089.

Comment Date: 5 p.m. Eastern Time on Tuesday, September 7, 2010.

Docket Numbers: ER10-2261-000.

Applicants: Cabrillo Power II LLC.

Description: Cabrillo Power II LLC submits tariff filing per 35: Cabrillo Power II—FERC Electric Tariff to be effective 8/17/2010.

Filed Date: 08/17/2010.

Accession Number: 20100817-5090.

Comment Date: 5 p.m. Eastern Time on Tuesday, September 7, 2010.

Docket Numbers: ER10-2262-000.

Applicants: El Segundo Power LLC.

Description: El Segundo Power LLC submits tariff filing per 35: El Segundo Power—FERC Electric Tariff to be effective 8/17/2010.

Filed Date: 08/17/2010.

Accession Number: 20100817-5091.

Comment Date: 5 p.m. Eastern Time on Tuesday, September 7, 2010.

Docket Numbers: ER10-2263-000.

Applicants: El Segundo Power II LLC.

Description: El Segundo Power II LLC submits tariff filing per 35: El Segundo Power II—FERC Electric Tariff to be effective 8/17/2010.

Filed Date: 08/17/2010.

Accession Number: 20100817-5095.

Comment Date: 5 p.m. Eastern Time on Tuesday, September 7, 2010.

Docket Numbers: ER10-2264-000.

Applicants: Long Beach Generation LLC.

Description: Long Beach Generation LLC submits tariff filing per 35: Long Beach Generation—FERC Electric Tariff to be effective 8/17/2010.

Filed Date: 08/17/2010.

Accession Number: 20100817-5099.

Comment Date: 5 p.m. Eastern Time on Tuesday, September 7, 2010.

Docket Numbers: ER10-2265-000.

Applicants: NRG Power Marketing LLC.

Description: NRG Power Marketing LLC submits tariff filing per 35: NRG Power Marketing—FERC Electric Tariff to be effective 8/17/2010.

Filed Date: 08/17/2010.

Accession Number: 20100817-5101.

Comment Date: 5 p.m. Eastern Time on Tuesday, September 7, 2010.

Docket Numbers: ER10-2266-000.

Applicants: Solar Blythe LLC.

Description: Solar Blythe LLC submits tariff filing per 35: NRG Solar Blythe—FERC Electric Tariff to be effective 8/17/2010.

Filed Date: 08/17/2010.

Accession Number: 20100817-5105.

Comment Date: 5 p.m. Eastern Time on Tuesday, September 7, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-20934 Filed 8-23-10; 8:45 am]

BILLING CODE 6717-01-P